FEDERAL COMMUNICATIONS COMMISSION

Notice of Public Information Collection(s) Being Reviewed by the Federal Communications Commission for Extension Under Delegated Authority, Comments Requested

November 21, 2007.

SUMMARY: The Federal Communications Commission, as part of its continuing effort to reduce paperwork burdens, invites the general public and other Federal agencies to take this opportunity to (PRA) of 1995 (PRA), Public Law No. 104-13. An agency may not conduct or sponsor a collection of information unless it displays a currently valid control number. Subject to the PRA, no person shall be subject to any penalty for failing to comply with a collection of information that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written PRA comments should be submitted on or before February 1, 2008. If you anticipate that you will be submitting comments, but find it difficult to do so within the period of time allowed by this notice, you should advise the contact listed below as soon as possible.

ADDRESSES: You may submit all PRA comments by e-mail or U.S. post mail. To submit your comments by e-mail, send them to PRA@fcc.gov. To submit your comments by U.S. mail, mark them to the attention of Cathy Williams, Federal Communications Commission, Room 1-C823, 445 12th Street, SW., Washington, DC 20554.

FOR FURTHER INFORMATION CONTACT: For additional information about the information collection(s), contact Cathy Williams at (202) 418-2918 or send an e-mail to PRA@fcc.gov.

SUPPLEMENTARY INFORMATION: OMB Control Number: 3060-0248.

Title: Section 74.751, Modification of Transmission Systems.

Form Number: Not applicable.

Type of Review: Extension of a currently approved collection.

Respondents: Business or other for-profit entities; Not-for-profit institutions; State, Local or Tribal Government.

Number of Respondents: 400.

Estimated Time per Response: 0.50 hours.

Frequency of Response: On occasion reporting requirement; Recordkeeping requirement.

Total Annual Burden: 200 hours.

Total Annual Cost: None.

Nature of Response: Required to obtain or retain benefits.

Confidentiality: No need for confidentiality required.

Privacy Impact Assessment: No impact(s).

Needs and Uses: 47 CFR 74.751(c) requires licensees of low power TV or TV translator stations to send written notification to the FCC of equipment changes which may be made at licensee's discretion without the use of a formal application. Section 74.751(d) requires that licensees of low power TV or TV translator stations place in the station records a certification that the installation of new or replacement transmitting equipment complies in all respects with the technical requirements of this section and the station authorization. The notifications and certifications of equipment changes are used by FCC staff to ensure that the equipment changes made are in full compliance with the technical requirements of this section and the station authorizations and will not cause interference to other authorized stations.

OMB Control Number: 3060-0841.

Title: Public Notice—Additional Processing Guidelines for DTV (Nonchecklist Applications).

Form Number: Not applicable.

Type of Review: Extension of a currently approved collection

Respondents: Business or other for-profit entities; Not-for-profit institutions.

Number of Respondents: 50.

Estimated Time per Response: 3 hours.

Frequency of Response: On occasion reporting requirement; Third party disclosure requirement.

Total Annual Burden: 150 hours.

Total Annual Cost: $180,000.

Nature of Response: Required to obtain or retain benefits.

Confidentiality: No need for confidentiality required.

Privacy Impact Assessment: No impact(s).

Needs and Uses: On August 10, 1998, the Commission released a public notice that explained how “nonchecklist” applications (i.e., applications that do not conform to certain criteria to enable fast-track processing) will be processed for Digital TV (DTV) station construction permits. This public notice explained in detail what should be included in engineering showings and other types of application exhibits and cover letters (including de minimis interference showings).

This collection includes the following:

(a) Technical or interference studies should identify the facilities on which the computer analyses were done (computer and software used) and whether sufficient comparisons have been made to confirm that these facilities produce the same results as the Commission's implementation of the Commission technical methodology, as explained in Office of Engineering Technology (OET) Bulletin No. 69 and as set forth in the Commission's digital television proceeding. The technical exhibit should indicate which DTV or National Television System Committee (NTSC) stations are affected by interference from the proposed DTV facility and the changes in the population they serve. Applications containing a finer resolution study than that described in OET Bulletin No. 69 must clearly identify that fact and should request Commission review on that basis.

If the study is not based on FCC-matched computer analysis, the technical exhibit should include a description of the methods and models employed, how it differs from FCC analysis, which DTV and NTSC stations are considered and are affected, and the magnitude of the change in the population they are predicted to service. Alternatively, a non-conforming application may include a demonstration that its service area is not extended beyond the area it was assigned in the Order and that there are no adjacent-channel or “taboo”-channel related DTV or NTSC stations that would be predicted to receive interference from the facilities requested in the application.

(b) De minimis calculations—The de minimis calculations are complex, with many decisions on assumptions or procedures that can alter the accuracy of the determination and the difficulty of performing it. The public notice explains how de minimis calculations are to be prepared and what information must be included in any engineering showings.

(c) Antenna beam tilting—The Memorandum Opinion and Order allowed Ultra High Frequency (UHF) applicants to increase their power within their existing DTV service areas using antenna beam-tilting. Applicants using antenna beam tilting must include a complete description of the proposed antenna system, including a determination of the depression angle to the radio horizon and the antenna gain and resulting ERP at that depression angle. An additional showing is required if an adjacent-channel DTV or NTSC station is close enough that unacceptable interference may be caused. Stations that are to be considered are those within the outer distances of the minimum separation requirements for new DTV allotments. If there are any stations or DTV allotments within these distances, the application must include a technical showing that interference does not exceed the de minimis standard.

(d) DTV allotment exchanges—Through the application process, broadcasters are permitted to negotiate exchanges of DTV allotments in the same community, same TV market or in adjacent markets, thereby affording them increased flexibility to operate facilities best meeting their needs and without subjecting them to time consuming allocation rule making proceedings. Applications to implement DTV allotment exchanges should be submitted as a package and should include the following attachments: (1) A cover letter noting the allotment exchanges and the parties involved, (2) the exchange agreement signed by all parties to the agreement, (3) required interference studies or agreements with all other affected parties and (4) a showing as to why a grant of the exchange would serve the public interest.

Federal Communications Commission.
Marlene H. Dortch,
Secretary.

[FR Doc. E7-23265 Filed 11-30-07; 8:45 am]

BILLING CODE 6712-01-P